FEDERAL COMMUNICATIONS COMMISSION

Privacy Act System of Records

AGENCY: Federal Communications Commission.

ACTION: Notice; one altered Privacy Act system of records; deletion of five routine uses; and addition of one new routine use.

SUMMARY: Pursuant to the provisions of the Privacy Act of 1974, as amended, 5 U.S.C. 552a(e)(4) and (e)(11), the FCC proposes to change the name and alter one system of records, FCC/Central-2, “Employee Locator System” (formerly “Employee Locator Card Files”). The altered system of records will incorporate changes in what information is maintained and how the information is stored—from a paper file card system to an electronic database; the deletion of five routine uses; the addition of one new routine use; and other edits and revisions as necessary.

DATES: In accordance with 5 U.S.C. 552a(e)(4) and (e)(11) of the Privacy Act of 1974, as amended, any interested person may submit written comments concerning the routine uses of this system on or before April 28, 2003. Pursuant to Appendix I, 4(e) of OMB Circular A-130, the FCC is asking the Office of Management and Budget (OMB), which has oversight responsibility under the Privacy Act, to grant a waiver of the 40 day review period by OMB, the House of Representatives, and the Senate for this system of records. The FCC is requesting this waiver because the war emergency and homeland security make it imperative that the Commission has this system of records available so that in case of an emergency that affects FCC employees caused by the war or terrorism, emergency personnel can quickly reach the designated “contacts” of these employees.

The proposed altered system shall be effective on April 28, 2003, unless the FCC receives comments that require a contrary determination. The Commission will publish a document in the Federal Register notifying the public if any changes are necessary. As required by 5 U.S.C. 552a(r) of the Privacy Act of 1974, as amended, the FCC has submitted reports on this proposed altered system to OMB and both Houses of Congress.

ADDRESSES: Comments should be sent to Les Smith, Privacy Act Clerk, Performance Evaluation and Records Management (PERM), Room 1-A804, Federal Communications Commission (FCC), 445 12th Street, SW., Washington, DC 20554, (202) 418-0217, or via the Internet at lesmith@fcc.gov.

FOR FURTHER INFORMATION CONTACT: Les Smith, (202) 418-0217 or via the Internet at lesmith@fcc.gov; or Michele Sutton, (202) 418-0137 or via the Internet at msutton@fcc.gov.

SUPPLEMENTARY INFORMATION: As required by the Privacy Act of 1974, as amended, 5 U.S.C. 552a(e)(4) and (e)(11), this document sets forth notice of the proposed altered system of records maintained by the FCC; deletion of five routine uses; and addition of one new routine use. See 65 FR 63468, October 23, 2000. The purposes for altering FCC/Central-2, “Personnel Investigation System” are to change the name of the system of records to reflect the change in the way the system is maintained—from a paper file card system to an electronic database; to change the information that is being maintained; to delete five routine uses; to add one new routine use; and otherwise to alter, update, and revise this system of records as necessary.

The FCC proposes to achieve these purposes by altering this system of records, FCC/Central-2, “Personnel Locator System” (formerly “Personnel Locator Card Files”) with these changes: A change in the information that is being maintained; the deletion of five routine uses; the addition of one new routine use to address the new and/or revised information that is being maintained: this Routine Use allows disclosure to emergency medical personnel, i.e., doctors, nurses, and/or paramedics, or to law enforcement officials in case of a medical or other emergency involving the FCC employee.

The alteration, revision, or modification of various data elements in FCC/Central-2, including editorial changes to update, simplify, or clarify, as necessary, this system of records.

The Human Resources Office (AMD-HRM) will use the records in FCC/Central-2, “Employee Locator System,” to identify the individual(s) to contact, should an emergency of a medical or other nature involving the Commission employee occur while the employee is on the job. Initial collection and requested periodic updates are voluntary, as the employee does not have to provide it. This notice meets the requirement documenting the change in the Commission's system of records, and provides the public, Congress, and the Office of Management and Budget (OMB) an opportunity to comment.

FCC/Central-2

SYSTEM NAME:

Employee Locator System.

SECURITY CLASSIFICATION:

This system of records has not been given a security classification.

SYSTEM LOCATION:

Human Resources Office (AMD-HRM), Bureau and Office Administrative Offices, Federal Communications Commission (FCC), 445 12th Street, SW., Washington, DC 20554 and 1270 Fairfield Road, Gettysburg, Pennsylvania 17325.

CATEGORIES OF INDIVIDUALS COVERED BY THE SYSTEM:

Current employees of the Federal Communications Commission (FCC).

CATEGORIES OF RECORDS IN THE SYSTEM:

1. The FCC employee's name, Bureau/Office, floor, room number, work and home telephone numbers; and

2. The name(s), e-mail address(es), and telephone number(s) of the individual(s) to contact in the event of a medical or other emergency involving the FCC employee.

AUTHORITY FOR MAINTENANCE OF THE SYSTEM:

5 U.S.C. 7901 and 44 U.S.C. 3101.

PURPOSE(S):

The records in this system serve to identify the individual(s) to contact, should an emergency of a medical or other nature involving the Commission employee occur while the employee is on the job. Initial collection and requested periodic updates are voluntary, as the employee does not have to provide it.

ROUTINE USES OF RECORDS MAINTAINED IN THE SYSTEM, INCLUDING CATEGORIES OF USERS AND THE PURPOSES OF SUCH USES:

A record on an individual in this system of records may be disclosed to emergency medical personnel, i.e., doctors, nurses, and/or paramedics, or to law enforcement officials in case of a medical or other emergency involving the FCC employee.

In each of these cases, the FCC will determine whether disclosure of the record is compatible with the purpose for which the records were collected.

DISCLOSURE TO CONSUMER REPORTING AGENCIES:

Not applicable.

POLICIES AND PRACTICES FOR STORING, RETRIEVING, ACCESSING, RETAINING, AND DISPOSING OF RECORDS IN THE SYSTEM:

STORAGE:

Electronic records are maintained in a network computer database.

RETRIEVABILITY:

Records are retrieved by the employee's name, Bureau/Office, floor, and room number.

SAFEGUARDS:

Electronic records are maintained in a network computer database, which is secured through controlled access and passwords restricted to the employee, Human Resources Office (AMD-HRM) employees, administrative personnel, and emergency relocation site employees.

RETENTION AND DISPOSAL:

Records are maintained as long as the individual is a current employee of the Federal Communications Commission. When an employee leaves the Commission, the electronic records are destroyed by electronic erasure.

SYSTEM MANAGER(S) AND ADDRESS:

Human Resources Office (AMD-HRM), Federal Communications Commission (FCC), 445 12th Street, SW., Washington, DC 20554 and 1270 Fairfield Road, Gettysburg, Pennsylvania 17325.

NOTIFICATION PROCEDURE:

FCC employees wishing to inquire whether this system contains information about them should contact the Human Resources Office (AMD-HRM), Federal Communications Commission (FCC), 445 12th Street, SW., Washington, DC 20554 and 1270 Fairfield Road, Gettysburg, Pennsylvania 17325. Individuals must supply their full name in order for records to be located and identified.

RECORD ACCESS PROCEDURES:

Same as above.

CONTESTING RECORD PROCEDURES:

Same as above.

RECORD SOURCE CATEGORIES:

Individual on whom the record is maintained.

EXEMPTIONS CLAIMED FOR THE SYSTEM:

None.

Federal Communications Commission.
Marlene H. Dortch,
Secretary.

[FR Doc. 03-7554 Filed 3-27-03; 8:45 am]

BILLING CODE 6712-01-P